DEPARTMENT OF DEFENSE

Office of the Secretary

Notice of Intent To Grant an Exclusive License; Voltage Networking, LLC

AGENCY: National Security Agency, Department of Defense (DoD).

ACTION: Notice.

SUMMARY: The National Security Agency hereby gives notice of its intent to grant Voltage Networking, LLC a revocable, non-assignable, exclusive, license to practice the following Government-Owned inventions as described in the following: Patent No. 6,835,581 entitled “Method of coating optical device facets with dielectric layer and device made therefrom”; Patent No. 6,541,288 entitled “Method of determining semiconductor laser facet reflectivity after facet reflectance modification”; Patent No. 6,760,350 entitled “Method for measuring gain of photonic inverters”; Patent No. 7,010,187 entitled “Mode transition-discrimination photonic logic device”; Patent No. 7,599,594 entitled “Method of fabricating waveguide using sacrificial spacer layer”; Patent No. 7,442,577 entitled “Method of fabricating a patterned device using sacrificial spacer layer”; Patent No. 7,678,593 entitled “Method of fabricating optical device using multiple sacrificial spacer layers”; Patent No. 7,611,914 entitled “Method of fabricating turning mirror using sacrificial spacer layer and device made therefrom”; Patent No. 7,833,828 entitled “Method of fabricating a patterned device using sacrificial spacer layer”; Patent No. 7,595,221 entitled “Method of fabricating a patterned device using sacrificial spacer layer”; Patent No. 7,531,382 entitled “Method of fabricating a patterned device using sacrificial spacer layer”; Patent No. 7,700,387 entitled “Method of fabricating optical device using multiple sacrificial spacer layers”; Patent No. 7,700,391 entitled “Method of fabricating optical device using multiple sacrificial spacer layers”; Patent No. 7,741,136 entitled “Method of fabricating turning mirror using sacrificial spacer layer and device made therefrom”; Patent No. 7,838,867 entitled “Method of fabricating turning mirror using sacrificial spacer layer and device made therefrom”; and Patent No. 7,838,866 entitled “Method of fabricating turning mirror using sacrificial spacer layer and device made therefrom.”

The above-mentioned inventions are assigned to the United States Government as represented by the National Security Agency.

DATES: Anyone wishing to object to the grant of this license has fifteen (15) days from the date of publication of this notice to file written objections along with any supporting evidence, if any.

ADDRESSES: Written objections are to be filed with the National Security Agency Technology Transfer Program, 9800 Savage Road, Suite 6541, Fort George G. Meade, MD 20755-6541.

FOR FURTHER INFORMATION CONTACT: Marian T. Roche, Director, Technology Transfer Program, 9800 Savage Road, Suite 6541, Fort George G. Meade, MD 20755-6541, telephone (443) 479-9569.

Dated: November 4, 2011.
Aaron Siegel,
Alternate OSD Federal Register Liaison Officer, Department of Defense.

[FR Doc. 2011-29064 Filed 11-9-11; 8:45 am]

BILLING CODE 5001-06-P